DEPARTMENT OF HEALTH AND HUMAN SERVICES

National Institutes of Health

Government-Owned Inventions; Availability for Licensing

AGENCY: National Institutes of Health, Public Health Service, HHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent application listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent application.

Enhanced Sensitivity ELISA for SARS Diagnostic

Gary Nabel et al. (NIAID)

U.S. Provisional Application filed 15 Sep 2003 (DHHS Reference No. E-334-2003/0-US-01)

Licensing Contact: Susan Ano; 301/435-5515; anos@mail.nih.gov.

Reagents and protocols for extremely sensitive ELISA for use as a SARS diagnostic are described. The ELISA uses recombinantly-expressed nucleoprotein (N) or spike (S) glycoprotein from the SARS coronavirus as capture antigens. As little as five (5) days after onset, detection of antibody response is possible. The ELISA described herein is more sensitive than existing technology because of the N and S proteins; existing ELISAs use formalin-inactivated whole virus or peptides.

Inhibition of Retrovirus Gene Expression by PSF

Andrei Zolotukhin et al. (NCI)

U.S. Provisional Application No. 60/484,156 filed 30 Jun 2003 (DHHS Reference No. E-224-2003/0-US-01)

Licensing Contact: Susan Ano; 301/435-5515; anos@mail.nih.gov.

This technology describes methods of identifying inhibitors of retrovirus (e.g. HIV) gene expression, where such inhibitors are small molecules or nucleic acids. The compounds thus identified could be used as potential anti-retroviral therapeutics. The candidate agents are those that affect the interaction of human polypyrimidine tract binding protein associated splicing factor (PSF) with inhibitory sequences (INS) present in the HIV-1 genome. PSF has been shown to bind to INS present in the HIV genome, thus decreasing the levels of retrovirus gene expression like gag and env. Therefore, compounds that modulate or enhance binding of PSF to INS are potential inhibitors of retrovirus expression. The methods involve analyzing the interaction of PSF with INS and evaluating the level of retrovirus gene expression in the presence of a candidate agent. The technology provides for PSF to be introduced into the cell using an expression vector that encodes PSF.

Peptide Mimotopes of Lipooligosaccharide from Nontypeable Haemophilus influenzae as Vaccines

Xin-Xing Gu (NIDCD)

U.S. Provisional Application No. 60/441,928 filed 22 Jan 2003 (DHHS Reference No. E-344-2002/0-US-01)

Licensing Contact: Susan Ano; 301/435-5515; anos@mail.nih.gov.

The invention relates to peptide mimotopes of lipooligosaccharide (LOS) from nontypeable Haemophilus influenzae (NTHi) that are suitable for developing a novel vaccine against the pathogen, for which there is currently no licensed vaccine. The mimotopes not only immunologically mimic LOS from NTHi but will also bind to antibodies specific for NTHi LOS. NTHi is a common pathogen that causes otitis media in children and lower respiratory tract infections in adults. The effectiveness of a vaccine could be increased by substitution of a LOS epitope with a peptide mimic. Preliminary experiments showed that the mimic peptides conjugated to a carrier were as effective as the LOS-based vaccine in stimulating a humoral immune response in rabbits. Thus, the identified peptides are promising candidates for developing a novel vaccine for NTHi.

Dated: October 24, 2003.
Steven M. Ferguson,
Director, Division of Technology Development and Transfer, Office of Technology Transfer, National Institutes of Health.

[FR Doc. 03-27502 Filed 10-31-03; 8:45 am]

BILLING CODE 4140-01-P